DEPARTMENT OF LABOR

Employment and Training Administration

[TA-W-60,271]

Town of Hartland; Hartland, ME; Notice of Termination of Investigation

Pursuant to Section 221 of the Trade Act of 1974, as amended, an investigation was initiated on October 20, 2006 in response to a petition filed by a company official on behalf of workers at the Town of Hartland waste treatment facility located in Hartland, Maine. The workers were engaged in waste treatment services.

The petitioner has requested that the petition be withdrawn. Consequently, the investigation has been terminated.

Signed in Washington, DC, this 27th day of October, 2006
Richard Church,
Certifying Officer, Division of Trade Adjustment Assistance.

[FR Doc. E6-18640 Filed 11-3-06; 8:45 am]

BILLING CODE 4510-30-P